DEPARTMENT OF DEFENSE

Office of the Secretary

[Docket ID: DoD-2022-OS-0042]

Submission for OMB Review; Comment Request

AGENCY: Office of the Under Secretary of Defense for Personnel and Readiness (OUSD(P&R)), Department of Defense (DoD).

ACTION: 30-Day information collection notice.

SUMMARY: The DoD has submitted to OMB for clearance the following proposal for collection of information under the provisions of the Paperwork Reduction Act.

DATES: Consideration will be given to all comments received by October 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Sexual Violence Support and Experience Study; OMB Control Number 0704-SVSS.

Type of Request: New.

Number of Respondents: 300.

Responses per Respondent: 4.

Annual Responses: 1,200.

Average Burden per Response: 15 minutes.

Annual Burden Hours: 300 hours.

Needs and Uses: Information from the Sexual Violence Support and Experience Study (SVSES) will be used by OUSD(P&R) policy offices, and the Military Departments to improve personnel policies, programs, practices, and trainings related to sexual assault response and accountability systems in the military. It will provide the policy offices of the OUSD(P&R) with current data on (1) Service member satisfaction with sexual assault support resources; (2) the impact that the military support and justice processes have on Service members who experience sexual assault during military service (e.g., their psychological health and well-being); and (3) aspects of the military support and justice process that relate to retention intention, career progression, and separation from military service. Any Service member (Active or Reserve component) who has experienced sexual assault since joining the military will be eligible to participate in the study. Recruitment for the SVSES will include proactive outreach to Service members who previously filed an unrestricted report for sexual assault and Service members who requested to learn more about the study. The Office of People Analytics (OPA) will administer the SVSES via the web. The survey will be administered online via proprietary software developed by OPA's operations contractor. To reduce respondent burden, these online surveys will use “smart skip” technology to ensure respondents only answer questions that are applicable to them. The study will not produce generalizable statistics or findings; rather, it will inform policy and program offices within the DoD about Service member satisfaction with sexual assault response resources and processes and the sexual assault accountability system. OPA will provide interim reports regarding the findings of the study to OUSD(P&R) policy offices on a biannual basis and a full report on a biennial basis. Data from the SVSES will also be used in future analyses.

Affected Public: Individuals or households.

Frequency: Quarterly.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 2, 2022.
Aaron T. Siegel,
Alternate OSD Federal Register, Liaison Officer, Department of Defense.

[FR Doc. 2022-19429 Filed 9-7-22; 8:45 am]

BILLING CODE 5001-06-P